FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Reporting, Recordkeeping, and Disclosure Requirements Associated with Regulation BB (FR BB; OMB No. 7100-0197).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR BB.

Final Approval Under OMB Delegated Authority of the Extension for Three Years, Without Revision, of the Following Information Collection

Collection title: Reporting, Recordkeeping, and Disclosure Requirements Associated with Regulation BB.

Collection identifier: FR BB.

OMB control number: 7100-0197.

General description of collection: The Community Reinvestment Act (CRA) was enacted in 1977 and is implemented by Regulation BB—Community Reinvestment (12 CFR 228). The CRA directs the Board, the Federal Deposit Insurance Corporation, and the Office of the Comptroller of the Currency to evaluate financial institutions' (banks and savings associations) records of helping to meet the credit needs of their entire communities, including low- and moderate-income areas, consistent with the safe and sound operation of the institutions. The reporting, recordkeeping, and disclosure requirements in the Board's regulation apply to state member banks (SMBs).

Frequency: Annually.

Respondents: SMBs, with the exception of certain special purpose banks.

Total estimated number of respondents: Assessment area delineation, 152; small business and small farm loan data, 148; community development loan data, 152; Home Mortgage Disclosure Act (HMDA) out of Metropolitan Statistical Areas (MSA) loan data, 140; request for designation as a wholesale or a limited purpose bank, 1; strategic plan approval request, 2; affiliate lending data, 5; data on lending by a consortium or third party, 12; small business and small farm loan register, 148; consumer loan data, 36; other loan data, 26; public file and public notice, 704.

Estimated average hours per response: Assessment area delineation, 2; small business and small farm loan data, 8; community development loan data, 13; HMDA out of MSA loan data, 253; request for designation as a wholesale or a limited purpose bank, 4; strategic plan approval request, 275; affiliate lending data, 38; data on lending by a consortium or third party, 17; small business and small farm loan register, 219; consumer loan data, 326; other loan data, 25; public file and public notice, 10.

Total estimated annual burden hours: 91,670.

Current actions: On July 31, 2025, the Board published a notice in the Federal Register (90 FR 36056) requesting public comment for 60 days on the extension, without revision, of the FR BB. The comment period for this notice expired on September 29, 2025. The Board did not receive comments.

Board of Governors of the Federal Reserve System, December 4, 2025.
Erin M. Cayce,
Assistant Secretary of the Board.

[FR Doc. 2025-22261 Filed 12-5-25; 8:45 am]

BILLING CODE 6210-01-P